DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-024. Applicant: Massachusetts Institute of Technology, Plasma Science and Fusion Center, 190 Albany Street, Cambridge, MA 02139. Instrument: Diagnostic Neutral Beam Injector (Hydrogen). Manufacturer: Budker Institute of Nuclear Physics, Russia. Intended Use: The instrument is intended to be used to inject a multi-ampere collimated beam of high-velocity ( near 1%) neutral hydrogen atoms (or deuterium or helium) into a tokomak plasma. Interactions between the beam atoms and the plasma will generate characteristic spectral emission lines from which crucial information about the hot plasma core can be extracted and studied including motional Stark effect, plasma ion temperature and flow velocity, beam emission spectroscopy and confinement and transport of fast particles in the tokamak plasma. It will also be used for education and research of graduate students and guest scientists from other plasma research facilities. Application accepted by Commissioner of Customs: June 23, 2005.

Docket Number: 05-025. Applicant: The Massachusetts Institute of Technology, 150 Albany Street, Cambridge, MA 02139. Instrument: Nuclear Magnetic Resonance Magnet, Model JMTC-600/140. Manufacturer: Jastec, Japan. Intended Use: The instrument is intended to be used to construct a persistent mode 600MHz, 125 mm room temperature bore LTS high-resolution NMR spectrometer by combining the foreign NMR magnet with a 1.76 T HTS insert built by the applicant. The resulting high homogeneity NMR spectrometer will be used to study a number of materials, such as nucleic acid molecules, helical peptides, bacteriorhodopsin and phenomena, such as frequency-selective heteronuclear dephasing and polarization and determination of structure and dynamics under physiological conditions. It will also be used for undergraduate, graduate and postdoctoraleducation and research. Application accepted by Commissioner of Customs: June 23, 2005.

Docket Number: 05-026. Applicant: Cornell University, Baker Lab, Ithaca, NY 14853-1301. Instrument: Horizontal Bounce Monochromater. Manufacturer: Oxford-Danfysik, England. Intended Use: The instrument is intended to be used to determine the molecular structures of macro-molecules of importance in the life sciences, particularly in the composition of the human genome and metabolic processes. Materials will include proteins, viruses, enzymes, and other related entities. X-ray crystallographic techniques will be used through studies of the scattering of monoenergetic x-rays from single crystals of these materials utilizing the intense beams of x-rays provided by the Advanced Photon Source located at the Department of Energy's Argonne National Laboratory. The objective is to understand more fully how various metabolic and physiological systems function. Application accepted by Commissioner of Customs: July 28, 2005.

Docket Number: 05-029. Applicant: University of Illinois at Chicago, Department of Physics (m/c 273), 845 West Taylor Street (Room 2236), Chicago, Il 60607-7059. Instrument: Excimer Laser and Preamplifier. Manufacturer: Laser-Laboratorium, Gottingen, Germany. Intended Use: The instrument is intended to be used to study nonlinear optical phenomena and x-ray amplification in gases, solids, atomic clusters and plasmas. Measured quantities of x-rays and their spectral properties will be examined for an understanding of new physics associated with coherent x-ray production which will serve as a preamplifier in an ultraviolet laser system. Application accepted by Commissioner of Customs: July 7, 2005.

Docket Number: 05-030. Applicant: National Animal Disease Center, U.S. Department of Agriculture, 2300 Dayton Avenue, Ames, IA, 50010. Instrument: Electron Microscope, Model Technai G2 12 TWIN/BioTWIN. Manufacturer: FEI Company, Czech Republic. Intended Use: The instrument is intended to be used for high resolution and high contrast imaging of thin-sectioned tissues of animals of major economic importance to U.S. agriculture. Basic and applied research on selected diseases of importance to the U.S. livestock and poultry industries will be conducted to:

1. Reduce economic losses from animal disease for the livestock and poultry industries and the associated rural agricultural communities.

2. Reduce or eliminate pre-harvest contamination/infection of animals with food-borne human pathogens.

3. Prevent suffering and death caused by diseases. Application accepted by Commissioner of Customs: July 6, 2005.

Docket Number: 05-031. Applicant: University of Illinois, Department of Crop Sciences, 384A Edward R. Madigan Lab, 1201 West Gregory Drive, Urbana, IL . Instrument: Qarray2 Microarraying System. Manufacturer: Genetix, Ltd., United Kingdom. Intended Use: The instrument is intended to be used in genomics research to “print” thousands of DNA specimens representing laboratory-produced soybean genes onto glass slides in a process known as microarray. The glass slide microarrays produced with the Qarray2 instrument will then be exposed to tissue extracts and used to determine how and when the genes are active or “expressed” in the plant, providing information on plant growth, disease resistance and production of nutritionally significant compounds. The instrument will also be used for instruction in several lab courses. Application accepted by Commissioner of Customs: July 8, 2005.

Gerald A. Zerdy,
Program Manager Statutory Import Programs Staff.

[FR Doc. 05-14731 Filed 7-25-05; 8:45 am]

BILLING CODE 3510-DS-S